DEPARTMENT OF EDUCATION

Office of Innovation and Improvement; Overview Information; Teacher Quality Partnership Grants Program

Revised notice inviting applications for new awards for fiscal year (FY) 2009.

Catalog of Federal Domestic Assistance (CFDA) Number: 84.405A.

Note: On May 27, 2009, we published in the Federal Register (74 FR 25221) a notice inviting applications for new FY 2009 awards for the Teacher Quality Partnership Program (Initial TQP Application Notice). Since that time, Public Law (Pub. L.) 111-39 was enacted, which made certain technical amendments to the Higher Education Opportunity Act of 2008, the original statute authorizing the program. This notice inviting applications has been updated to respond to statutory changes made to the TQP program and supersedes the Initial TQP Application Notice.

Dates:

Applications Available: August 4, 2009.

Deadline for Transmittal of Applications: First Deadline: July 23, 2009. Second Deadline: October 6, 2009.

Deadline for Intergovernmental Review: First Deadline: September 21, 2009. Second Deadline: December 7, 2009.

Full Text of Announcement

I. Funding Opportunity Description

Purpose of Program: The purposes of the Teacher Quality Partnership (TQP) Grants Program are to: Improve student achievement; improve the quality of new and prospective teachers by improving the preparation of prospective teachers and enhancing professional development activities for new teachers; hold teacher preparation programs at institutions of higher education (IHEs) accountable for preparing highly qualified teachers; and recruit highly qualified individuals, including minorities and individuals from other occupations, into the teaching force.

More specifically, the TQP Grants Program seeks to improve the quality of new teachers by creating partnerships among IHEs, high-need school districts (local educational agencies (LEAs)) their high-need schools, and/or high-need early childhood education (ECE) program. These partnerships would create model teacher preparation programs at the pre-baccalaureate or fifth-year level through the implementation of specific reforms of the IHE's existing teacher preparation programs, and/or model teaching residency programs for individuals with strong academic and/or professional backgrounds but without teaching experience. The TQP Grants Program may also support school leadership programs to train superintendents, principals, ECE program directors, and other school leaders in high-need or rural LEAs.

Background:

On May 27, 2009, we published in the Federal Register (74 FR 25221) the Initial TQP Application Notice. Since that time, Public Law 111-39 was enacted, which made certain technical amendments to the Higher Education Act of 1965, as amended by the Higher Education Opportunity Act—the original statute authorizing the program. This revised notice inviting applications incorporates changes to the competition that are based on technical amendments made to the TQP program in Public Law 111-39.

Summary of Changes

Substantive Changes Made to Priorities Based on Public Law 111-39 Technical Amendments

For the convenience of applicants, we summarize here the changes made to the TQP program priorities since the publication of the Initial TQP Application Notice and based on the statutory amendments. The substantive changes affect the Pre-Baccalaureate Program described in Absolute Priority 1 and the Teaching Residency Program described in Absolute Priority 2. We also have made technical conforming changes to other sections of this notice (i.e., Purpose of Program, General Application Requirements, Competitive Preference Priority 1, Competitive Preference Priority 4, the Invitational Priority, the definition of “high-need school,” and Performance Measures) to reflect the statutory amendments.

Changes to Absolute Priority 1. In the Initial TQP Application Notice, Absolute Priority 1 provided that only eligible partnerships that include a partner institution with a pre-baccalaureate teacher preparation program were eligible for awards. The statutory amendment now also permits eligible partnerships with a partner institution that provides a fifth-year post-baccalaureate teacher preparation program to be eligible to receive TQP program funding.

The Department interprets this technical amendment to permit teacher preparation programs that may begin at the pre-baccalaureate level but continue into a fifth post-baccalaureate year also to be eligible for program funding, provided that both the pre-baccalaureate and post-baccalaureate partner institutions are part of the eligible partnership.

Changes to Absolute Priority 2. Paragraph (d) of Absolute Priority 2 in the Initial TQP Application Notice states that the Teaching Residency Program must be one year in length. The statutory amendment in P.L. 111-39 extends the requirement to acquire a master's degree and certification from one year to 18 months after beginning the program.

The Department interprets this technical amendment to permit teachers to become teachers of record while they are still working on their master's degrees provided that the program is designed to have participants earn their master's degrees within the requisite 18-month period, and the teachers have become highly qualified and have completed the mentored residency portion of the program.

Changes to Requirements for the Fiscal Agent. In addition to the changes resulting from the statutory amendments, the Department is changing the eligibility requirements to provide for additional flexibility regarding organizations that may be the fiscal agent for applicants in this competition.

The Initial TQP Application Notice provided that only required partners could be the fiscal agent of the grant. We have decided to allow the eligible partnership to select which of their required or optional partners would be the fiscal agent for the grant.

Second Application Deadline Date. As a result of the technical changes and the change in eligibility requirements, we are establishing a second application deadline for applicants that are interested in conforming their applications to these changes but would not have sufficient time to do so by the July 23, 2009 deadline specified in the Initial TQP Application Notice.

The following is an updated version of the priorities and requirements originally published in the Initial TQP Application Notice that incorporate the changes noted in this section.

General Application Requirements:

All applicants must meet the following general application requirements in order to be considered for funding. Except as specifically noted in this section, the general application requirements are from section 202 of the Higher Education Act of 1965, as amended in 2008 by the Higher Education Opportunity Act (HEA) (20 U.S.C. 1022(a)).

Each eligible partnership desiring a grant under this program must submit an application that contains—

(a) A needs assessment of the partners in the partnership, for the preparation, ongoing training, professional development, and retention of general education and special education teachers, principals, and, as applicable, early childhood educators;

(b) A description of how the partnership will—

(1) Prepare prospective and new general education and special education teachers to understand and use research and data to modify and improve classroom instruction and prepare prospective and new teachers with strong teaching skills;

(2) Support in-service professional development strategies and activities;

(3) Engage faculty at the partner institution to work with highly qualified teachers in the classrooms of high-need schools served by the high-need LEA in the partnership in order to—

(i) Provide high-quality professional development to strengthen the content knowledge and teaching skills of elementary school and secondary school teachers; and

(ii) Train other classroom teachers to implement literacy programs that incorporate the essential components of reading instruction;

(4) Design, implement, or enhance a year-long and rigorous teaching preservice clinical program component;

(5) Prepare general education teachers to teach students with disabilities, including training related to participation as a member of individualized education program teams, as defined in section 614(d)(1)(B) of the Individuals with Disabilities Education Act (IDEA);

(6) Prepare general education and special education teachers to teach limited English proficient students; and

(7) Collect, analyze, and use data on the retention of all teachers and early childhood educators in high-need schools and high-need ECE programs located in the geographic area served by the partnership to evaluate the effectiveness of the partnership's teacher and educator support system;

(c) A description of the induction program activities that demonstrates—

(1) That the schools and departments within the IHE that are part of the induction program will effectively prepare teachers, including providing content expertise and expertise in teaching, as appropriate;

(2) The eligible partnership's capability and commitment to, and the accessibility to and involvement of faculty in, the use of empirically-based practice and scientifically valid research on teaching and learning;

(3) How faculty involved in the induction program will be able to substantially participate in a high-need ECE program or a high-need elementary school or high-need secondary school classroom setting, as applicable, including release time and receiving workload credit for such participation; and

(4) How the teacher preparation program will support, through not less than the first two years of teaching, all new teachers who are prepared by the teacher preparation program in the partnership and who teach in the high-need LEA in the partnership, and, to the extent practicable, all new teachers who teach in such high-need LEA, in the further development of the new teachers' teaching skills, including the use of mentors who are trained and compensated by the program for the mentors' work with new teachers;

(d) A description of how the partnership will—

(1) Coordinate strategies and activities with other teacher preparation or professional development programs, including programs funded under the Elementary and Secondary Education Act of 1965, as amended (ESEA), and the IDEA, and through the National Science Foundation; and how those activities will be consistent with State, local, and other education reform activities that promote teacher quality and student academic achievement; and

(2) Align the teacher preparation program with the—

(i) State early learning standards for ECE programs, as appropriate, and with the relevant domains of early childhood development; and

(ii) Student academic achievement standards and academic content standards under section 1111(b)(1) of the ESEA, established by the State in which the partnership is located;

(e) An assessment that describes the resources available to the partnership, including—

(1) The integration of funds from other related sources;

(2) The intended use of the grant funds; and

(3) The commitment of the resources of the partnership to the activities assisted under this program, including financial support, faculty participation, and time commitments, and to the continuation of the activities when the grant ends;

(f) A description of the partnership's evaluation plan that includes strong and measurable performance objectives, including objectives and measures for increasing—

(1) Achievement for all prospective and new teachers and their students, as measured by the eligible partnership. The HEA permits the Secretary to establish additional requirements for applications under this program. In that regard, in addition to the statutory requirement that each application describe in its evaluation plan the objectives and measures for increasing the achievement for prospective and new teachers, we also require the application to describe objectives and measures for increasing the achievement of students taught by teachers who have participated in the projects. As one of the key statutory purposes of the TQP Grants Program is to improve student achievement (section 201(1) of the HEA) we believe that any evaluation of the performance of the projects funded under this program should include an assessment of the impact of the project on student achievement and that applicants should describe the objectives and measures for doing so in their evaluation plan;

(2) Teacher retention in the first three years of a teacher's career;

(3) Improvement in the pass rates and scaled scores for initial State certification or licensure of teachers;

(4) The percentage of highly qualified teachers hired by the high-need LEA participating in the eligible partnership, including the percentage of those teachers—

(i) Who are members of underrepresented groups;

(ii) Who teach high-need academic subject areas (such as reading, mathematics, science, and foreign language, including less commonly taught languages and critical foreign languages);

(iii) Who teach in high-need areas (including special education, language instruction educational programs for limited English proficient students, and ECE); and

(iv) Who teach in high-need schools, disaggregated by the elementary school and secondary school levels;

(5) As applicable, the percentage of ECE program classes in the geographic area served by the eligible partnership taught by early childhood educators who are highly competent; and

(6) As applicable, the percentage of teachers trained—

(i) To integrate technology effectively into curricula and instruction, including technology consistent with the principles of universal design for learning; and

(ii) To use technology effectively to collect, manage, and analyze data to improve teaching and learning for the purpose of improving student academic achievement; and

(g) A description of—

(1) How the partnership will meet the purposes of the TQP Grants Program as specified in section 201 of the HEA;

(2) How the partnership will carry out the activities required under section 202(d) of the HEA (Partnership Grants for the Preparation of Teachers) and/or section 202(e) of the HEA (Partnership Grants for the Establishment of Teaching Residency Programs); and

(3) If the partnership chooses to use funds under the TQP Grants Program for a project or activities under section 202(f) of the HEA (Partnership Grants for the Development of Leadership Programs) or section 202(g) of the HEA (Partnership with Digital Education Content Developer), how the partnership will carry out the project or required activities based on the needs identified in the needs assessment described in paragraph (a), with the goal of improving student academic achievement.

Program Evaluation Requirements:

All applicants must cooperate with the national evaluation contractor selected by ED to evaluate the TQP Grants Program. This will include responding to modest data requests by the evaluation contractor (for example, requested program information and program participant information such as GRE or SAT scores and contact information).

Priorities: This notice contains two absolute priorities, four competitive preference priorities, and one invitational priority that are explained in the following paragraphs.

Absolute Priorities: In accordance with 34 CFR 75.105(b)(2)(iv), Absolute Priority 1 is from section 202(d) of the HEA and Absolute Priority 2 is from section 202(e) of the HEA. For FY 2009 and any subsequent year in which we make awards from the list of unfunded applicants from this competition, these priorities are absolute priorities. Under 34 CFR 75.105(c)(3) we consider only applications that meet one or both of these absolute priorities. These priorities are:

Absolute Priority 1: Partnership Grants for the Preparation of Teachers. Under this priority, an eligible partnership must carry out an effective pre-baccalaureate teacher preparation program or a fifth year initial licensing program that includes all of the following:

(a) Program Accountability. Implementation of reforms, described in paragraph (b) of this priority, within each of the partnership's teacher preparation programs and, as applicable, each of the partnership's preparation program for ECE programs, to hold each program accountable for—

(1) Preparing—

(i) New or prospective teachers to be highly qualified (including teachers in rural school LEAs who may teach multiple subjects, special educators, and teachers of students who are limited English proficient who may teach multiple subjects);

(ii) Such teachers and, as applicable, early childhood educators, to understand empirically-based practice and scientifically valid research related to teaching and learning and the applicability of such practice and research, including through the effective use of technology, instructional techniques, and strategies consistent with the principles of universal design for learning, and through positive behavioral interventions and support strategies to improve student achievement; and

(iii) As applicable, early childhood educators to be highly competent; and

(2) Promoting strong teaching skills and, as applicable, techniques for early childhood educators to improve children's cognitive, social, emotional, and physical development.

(b) Specific reforms. The reform of the quality of each teacher preparation program, or each ECE program, by—

(1) Implementing teacher preparation program curriculum changes that improve, evaluate, and assess how well all prospective and new teachers develop teaching skills;

(2) Ensuring collaboration with departments, programs, or units of a partner institution outside of the teacher preparation program in all academic content areas to ensure that prospective teachers receive training in both teaching and relevant content areas in order to become highly qualified (which may include training in multiple subjects to teach multiple grade levels as may be needed for individuals preparing to teach in rural communities and for individuals preparing to teach students with disabilities as described in section 602(10)(D) of the IDEA);

(3) Developing admission goals and priorities aligned with the hiring objectives of the high-need LEA in the eligible partnership;

(4) Implementing program and curriculum changes, as applicable, to ensure that prospective teachers have requisite content knowledge, preparation, and degree to teach Advanced Placement or International Baccalaureate courses successfully;

(5) Developing and implementing an induction program for new teachers, or in the case of an ECE program, providing mentoring or coaching for new early childhood educators as described in paragraph (f) of this priority; and

(6) Using empirically based practice and scientifically valid research, where applicable, about teaching and learning so that all prospective students, and as applicable, early childhood educators—

(i) Understand and can implement research based teaching practices in classroom instruction;

(ii) Can successfully employ effective strategies for reading instruction using the essential components of reading instruction;

(iii) Possess skills to analyze student academic achievement data and other measures of student learning, and use such data and measures to improve classroom instruction;

(iv) Can effectively participate as a member of the individualized education program team, as defined in section 614(d)(1)(B) of the IDEA;

(v) Have knowledge of student learning methods; and

(vi) Possess teaching skills and an understanding of effective instructional strategies across all applicable content areas that enable general education and special education teachers and early childhood educators in order to—

(A) Meet the specific learning needs of all students, including students with disabilities, students who are limited English proficient, students who are gifted and talented, students with low literacy levels, children in ECE programs; and

(B) Differentiate instruction for these students.

(c) Literacy training. Strengthening the literacy teaching skills of prospective and, as applicable, new elementary and secondary school teachers to—

(1) Implement literacy programs that incorporate the essential components of reading instruction;

(2) Use screening, diagnostic, formative and summative assessments to determine students' literacy levels, difficulties, and growth in order to improve classroom instruction and improve student reading and writing skills;

(3) Provide individualized, intensive, and targeted literacy instruction for students with deficiencies in literacy skills; and

(4) Integrate literacy skills in the classroom across subject areas.

(d) Clinical experience. Development and implementation (or improvement) of a sustained and high-quality preservice clinical education program, offered over the course of a program of teacher preparation, to further develop the teaching skills of all prospective teachers, and as applicable, early childhood educators involved in the project. This preservice clinical education program must—

(1) Incorporate year-long opportunities for enrichment, including—

(i) Clinical learning in classrooms in high-need schools served by the high-need LEA in the eligible partnership, and identified by the eligible partnership; and

(ii) Closely supervised interaction between prospective teachers and faculty, experienced teachers, principals, other administrators, and school leaders at ECE programs (as applicable), elementary schools, or secondary schools, and providing support for such interaction;

(2) Integrate pedagogy and classroom practices and effective teaching skills in academic content areas;

(3) Provide high-quality teacher mentoring;

(4) Be tightly aligned with course work (and may be developed as a fifth year of a teacher preparation program);

(5) Where feasible, allow prospective teachers to learn to teach in the same LEA in which the teachers will work, learning the instructional initiatives and curriculum of that LEA; and

(6) As applicable, provide training and experience to enhance the teaching skills of prospective teachers to better prepare such teachers to meet the unique needs of teaching in rural or urban communities.

(e) Support for program participation. The provision of support and training for individuals participating in an activity for prospective or new teachers, whether in the teacher preparation program (or program for early childhood educators), the clinical experience, or in the LEA's induction program for new teachers, and for individuals who serve as mentors for these teachers, based on each individual's experience. This support and training may include—

(1) With respect to a prospective teacher or a mentor, release time for such individual's participation;

(2) With respect to a mentor, a stipend, which may include bonus, differential, incentive, or performance pay, based on the mentor's extra skills and responsibilities; and

(3) With respect to a faculty member, the receipt of course workload credit and compensation for time teaching in the eligible partnership's activities.

(f) Participants in an ECE program. Where a project focuses on preparation of early childhood educators, implementation of initiatives that increase compensation for early childhood educators who attain associate or baccalaureate degrees in ECE.

(g) Teacher recruitment. Development and implementation of effective mechanisms (which may include alternative routes to State certification of teachers) to ensure that the eligible partnership is able to recruit qualified individuals to become highly qualified teachers through the activities of the eligible partnership. These mechanisms may include an emphasis on recruiting into the teaching profession—

(1) Individuals from under represented populations;

(2) Individuals to teach in rural communities and teacher shortage areas, including mathematics, science, special education, and the instruction of limited English proficient students; and

(3) Mid-career professionals from other occupations, former military personnel, and recent college graduates with a record of academic distinction.

Absolute Priority 2: Partnership Grants for the Establishment of Effective Teaching Residency Programs. Under this priority, an eligible partnership must carry out a teaching residency program for high-need subjects and areas, as determined by the needs of the high-need LEA in the partnership. The program must ensure that teaching residents who participate in the teaching residency program receive the preparation and support described in the following required program components:

(a) Establishment and design. The teaching residency program must be based upon models of successful teaching residencies that serve as a mechanism to prepare teachers for success in the high-need schools in the eligible partnership, and be designed to include the following characteristics of successful programs:

(1) Integration of pedagogy, classroom practice, and teacher mentoring.

(2) Engagement of teaching residents in rigorous graduate-level course work leading to a master's degree while undertaking a guided teaching apprenticeship.

(3) Grouping of teaching residents in cohorts to facilitate professional collaboration among such residents.

(4) The development of admissions goals and priorities—

(i) That are aligned with the hiring objectives of the high-need LEA partnering with the program, as well as the instructional initiatives and curriculum of the high-need LEA, in exchange for a commitment by the high-need LEA to hire qualified graduates from the teaching residency program; and

(ii) Which may include consideration of applicants who reflect the communities in which they will teach as well as consideration of individuals from underrepresented populations in the teaching profession.

(5) Experience and learning opportunities alongside a trained and experienced mentor teacher—

(i) Whose teaching complements the residency program so that classroom clinical practice is tightly aligned with coursework;

(ii) Who has been given extra responsibilities—

(A) As a teacher leader of the teaching residency program;

(B) As a mentor for residents;

(C) As a teacher coach during the induction program for new teachers; and

(D) For establishing, within the program, a learning community in which all individuals are expected to continually improve their capacity to advance student learning; and

(iii) Who may be relieved, if appropriate, from teaching duties as a result of these additional responsibilities.

(6) The establishment of clear criteria for the selection of mentor teachers based on measures of teacher effectiveness and the appropriate subject area knowledge. For purposes of this section, evaluation of teacher effectiveness must be based on, but not limited to, observations of the following:

(i) Planning and preparation, including demonstrated knowledge of content, pedagogy, and assessment, including the use of formative and diagnostic assessments to improve student learning.

(ii) Appropriate instruction that engages students with different learning styles.

(iii) Collaboration with colleagues to improve instruction.

(iv) Analysis of gains in student learning, based on multiple measures that are valid and reliable and that, when feasible, may include valid, reliable, and objective measures of the influence of teachers on the rate of student academic progress.

(v) In the case of mentor candidates who will be mentoring new or prospective literacy and mathematics coaches or instructors, appropriate skills in the essential components of reading instruction, teacher training in literacy instructional strategies across core subject areas, and teacher training in mathematics instructional strategies, as appropriate.

(7) Support for teaching residents, once they are hired as teachers of record, through an induction program, professional development, and networking opportunities to support the residents through not less then the residents' first two years of teaching.

(b) Additional support for residents after completing the program. In addition to the services described in paragraph (a)(7) of this priority, a partnership must place graduates of the teaching residency program in cohorts that facilitate professional collaboration, both among graduates of the teaching residency program and between such graduates and mentor teachers in the receiving school.

(c) Selection of individuals as teacher residents.

(1) In order to be eligible to be a teacher resident in a teaching residency program, an individual must be a recent graduate of a four-year IHE or a mid-career professional from outside the field of education possessing strong content knowledge or a record of professional accomplishment, and submit an application to the teaching residency program.

(2) An eligible partnership must establish criteria for the selection of eligible individuals to participate in the teaching residency program based on the following characteristics—

(i) Strong content knowledge or record of accomplishment in the field or subject area to be taught;

(ii) Strong verbal and written communication skills, which may be demonstrated by performance on appropriate tests; and

(iii) Other attributes linked to effective teaching, which may be determined by interviews or performance assessments, as specified by the eligible partnership.

(d) Provision of stipends or salaries.

(1) A teaching residency program must provide a one-year living stipend or salary during the teaching residency program to any teacher resident candidate accepted into the program who requests the stipend or salary and submits the application described in paragraph (d)(2) of this priority.

(2) Each teaching residency candidate desiring a living stipend or salary during the period of the residency must submit an application to the eligible partnership at such time, and containing such information and assurances, as the eligible partnership may require.

(3) Each application submitted under paragraph (d)(2) of this priority, must contain or be accompanied by an agreement that the applicant will—

(i) Serve as a full-time teacher for a total of not less than three academic years immediately after successfully completing the teaching residency program;

(ii) Fulfill the requirement under paragraph (d)(3)(i) of this priority by teaching in a high-need school served by the high-need LEA in the eligible partnership and teach a subject or area that is designated as high need by the partnership;

(iii) Provide to the eligible partnership a certificate, from the chief administrative officer of the high-need LEA in which the teacher resident is employed, documenting the employment required under paragraph (d)(3)(i) and (ii) of this priority at the beginning of, and upon completion of, each year or partial year of service;

(iv) Meet the requirements to be a highly qualified teacher, as defined in section 9101 of the ESEA, or section 602 of the IDEA, when the applicant begins to fulfill the service obligation under the program; and

(v) Comply with the requirements established by the eligible partnership under paragraph (e) of this priority if the applicant is unable or unwilling to complete the service obligation required by the paragraph.

(e) Repayments.

(1) Each grantee carrying out a teaching residency program must require a recipient of a stipend or salary under paragraph (d)(1) of this priority who does not complete, or who notifies the partnership that he or she intends not to complete, the service obligation required by paragraph (d)(3) of this priority to repay the stipend or salary to the eligible partnership—

(i) Together with interest at a rate specified by the partnership in the agreement; and

(ii) In accordance with such other terms and conditions specified by the eligible partnership, as necessary.

(2) Other terms and conditions specified by the eligible partnership may include, among other things, reasonable provisions for pro-rata repayment of the stipend or salary described in paragraph (e)(1) of this priority, or for deferral of a teaching resident's service obligation required by paragraph (d)(3) of this priority, on grounds of health, incapacitation, inability to secure employment in a school served by the eligible partnership, being called to active duty in the Armed Forces of the United States, or other extraordinary circumstances.

(3) An eligible partnership must use any repayment received under paragraph (e) to carry out additional activities that are consistent with the purposes of the Teaching Residency program.

Competitive Preference Priorities: Within these absolute priorities, we give competitive preference to applications that address one or more of the following priorities. For FY 2009 and any subsequent year in which we make awards from the list of unfunded applicants from this competition, these priorities are competitive preference priorities.

Competitive Preference Priority 1: We are establishing Competitive Preference Priority 1 in accordance with section 437(d)(1) of the General Education Provisions Act (GEPA), 20 U.S.C. 1232(d)(1). Under 34 CFR 75.105(c)(2)(i) we award up to an additional 10 points to an application that meets Competitive Preference Priority 1, depending on how well the application meets the priority. We will add any competitive preference priority points only to highly rated applications on one or both of the absolute priorities.

This priority is:

Competitive Preference Priority 1: Student Achievement and Continuous Program Improvement. The Secretary gives priority to applications from an eligible partnership that would use appropriate means to—

(1) Collect and use data on student achievement to assess the effect of teachers prepared through the pre-baccalaureate teacher preparation program, fifth year initial licensing program, and/or teaching residency program on student learning in the classrooms of the high-need schools in which they work; to be eligible to receive the maximum number of points, applicants must demonstrate their capacity to include longitudinal data capturing student achievement by teacher from year to year, and

(2) Provide for continuous improvement of the participating teachers, and of the pre-baccalaureate teacher preparation program, fifth year initial licensing program, and/or teaching residency program based on these data.

Our purpose in establishing this priority is to support the collection and use of data showing the effect of teachers on student learning and achievement. The relevant data would include both teachers in the program and teachers not in the program. As noted earlier, a key statutory purpose of this program is to improve student achievement. Having these data will enable grantees both to assess the effectiveness of their projects and to use the data to improve the project's impact on student achievement.

Competitive Preference Priority 2: Competitive Preference Priority 2 is from section 202(f) of the HEA. As used in this priority, the definition of “LEA located in a rural area” is established in accordance with section 437(d)(1) of the General Education Provisions Act (GEPA), 20 U.S.C. 1232(d)(1). Under 34 CFR 75.105(c)(2)(i) we award up to an additional 5 points to an application that meets Competitive Preference Priority 2, depending on how well the application meets the priority. We will add any competitive preference priority points only to highly rated applications on one or both of the absolute priorities.

This priority is:

Competitive Preference Priority 2: Partnership Grants for the Development of Leadership Programs. Under this competitive preference priority the Secretary gives priority to applications from eligible partnerships that propose to carry out an effective school leadership program that will prepare individuals enrolled or preparing to enroll in those programs for careers as superintendents, principals, ECE program directors, or other school leaders (including individuals preparing to work in LEAs located in rural areas who may perform multiple duties in addition to the role of a school leader). An eligible partnership may carry out the school leadership program either in the partner high-need LEA or in further partnership with an LEA located in a rural area.

The school leadership program carried out under this priority must include the following activities:

(a) Preparation of school leaders. In preparing school leaders, the school leadership program must include the following activities:

(1) Promoting strong leadership skills and, as applicable, techniques for school leaders to effectively—

(i) Create and maintain a data-driven, professional learning community within the leader's schools;

(ii) Provide a climate conducive to the professional development of teachers, with a focus on improving student achievement and the development of effective instructional leadership skills;

(iii) Understand the teaching and assessment skills needed to support successful classroom instruction and to use data to evaluate teacher instruction and drive teacher and student learning;

(iv) Manage resources and school time to improve student academic achievement and ensure a safe school environment;

(v) Engage and involve parents, community members, the LEA, businesses, and other community leaders, to leverage additional resources to improve student academic achievement; and

(vi) Understand how students learn and develop in order to increase academic achievement for all students.

(2) Developing and improving a sustained and high-quality preservice clinical education program to further develop the leadership skills of all prospective school leaders involved in the program. This clinical education program must do the following:

(i) Incorporate year-long opportunities for enrichment, including—

(A) Clinical learning in high-need schools served by the high-need LEA or an LEA located in a rural area in the eligible partnership and identified by the eligible partnership; and

(B) Closely supervised interaction between prospective school leaders and faculty, new and experienced teachers, and new and experienced school leaders, in those high-need schools.

(ii) Integrate pedagogy and practice and promote effective leadership skills, meeting the unique needs of urban, rural, or geographically isolated communities, as applicable.

(iii) Provide for mentoring of new school leaders.

(3) Creating an induction program for new school leaders.

(4) Ensuring that individuals who participate in the school leadership program receive—

(i) Effective preservice preparation as described in paragraph (a)(2) of this priority;

(ii) Mentoring; and

(iii) If applicable, full State certification or licensure to become a school leader.

(5) Developing and implementing effective mechanisms to ensure that the eligible partnership is able to recruit qualified individuals to become school leaders through activities that may include an emphasis on recruiting into school leadership professions—

(i) Individuals from underrepresented populations;

(ii) Individuals to serve as superintendents, principals, or other school administrators in rural and geographically isolated communities and school leader shortage areas; and

(iii) Mid-career professionals from other occupations, former military personnel, and recent college graduates with a record of academic distinction.

(b) Selection of Participants. In order to be eligible for the school leadership program, an individual must—

(i) Be enrolled in or preparing to enroll in an IHE;

(ii) Be a—

(A) Recent graduate of an IHE;

(B) Mid-career professional from outside the field of education with strong content knowledge or a record of professional accomplishment;

(C) Current teacher who is interested in becoming a school leader; or

(D) School leader who is interested in becoming a superintendent; and

(iii) Submit an application to the school leadership program containing such information as the eligible partnership may require.

Section 202(g) of the HEA, like this priority, permits an eligible partnership to implement a school leadership program in an LEA that is not a high-need LEA provided the LEA is located in a rural area. However, the statute does not define the phrase “LEA located in a rural area,” for the purpose of this priority. The National Center for Educational Statistics (NCES), which has established locale codes based on geographic location, and assigned codes to all LEAs, considers an LEA with an assigned locale code of 31, 32, 33, 41, 42, or 43 as located in a rural area. (Codes 41-43 correspond with former locale codes 7 and 8 used to determine eligibility for the Small Rural School Achievement program; while codes 31-33 correspond to former locale code 6 used to help determine eligibility for the Rural Low Income Schools program.) In order to extend the potential benefits of the TQP School Leadership program to as many rural LEAs as possible, we have determined that any LEA assigned any of these six locale codes may qualify under this TQP program as an “LEA located in a rural area.”

Prospective applicants may determine whether a particular LEA has one of these six locale codes by referring to the following Web site: http://www.nces@ed.gov and using the following procedures:

a. From the options listed across the top of this web page, select “School, & College Library Search.”

b. From the menu that appears, select “Search for School Districts.”

c. On the “Search for Public School Districts” page, type in the LEA or school district name (do not include phrases like “School District” or “Public Schools” that follow the name, and the State in which it is located. Then select “Search.”

d. From the list of LEAs shown, select the appropriate LEA. On the “District Information” page, the NCES locale code for the district is shown under the subheading “District Details,” next to “Locale.”

Competitive Preference Priorities 3 and 4: Competitive Preference Priorities 3 and 4 are from section 203(b)(2) of the HEA. Under 34 CFR 75.105(c)(2)(ii) we give preference to an application that meets one or both of these priorities over an application of comparable merit that does not meet the priorities.

These priorities are:

Competitive Preference Priority 3: Rigorous Selection Process. Eligible partnerships that include an IHE whose teacher preparation program has a rigorous process for selecting students entering the program to ensure the highest quality of students entering the program.

Competitive Preference Priority 4: Broad-based Partners. Applications from broad-based eligible partnerships with significant involvement of businesses or community organizations.

Invitational Priority: Within Absolute Priorities 1 and 2, we are particularly interested in applications that address the following invitational priority. For FY 2009 and any subsequent year in which we make awards from the list of unfunded applicants from this competition, this priority is an invitational priority. Under 34 CFR 75.105(c)(1) we do not give an application that meets this invitational priority a competitive or absolute preference over other applications.

This priority is:

Partnership with Digital Education Content Developer. Consistent with section 202(g) of the HEA, we are interested in receiving applications that propose to use grant funds to carry out one or both of the absolute priorities, through partnerships with a television public broadcast station, as defined in section 397(6) of the Communications Act of 1934, as amended (47 U.S.C. 397(6)), or another entity that develops digital educational content, for the purpose of improving the quality of teacher preparation programs or to enhance the quality of preservice training for prospective teachers.

Waiver of Proposed Rulemaking: Under the Administrative Procedure Act (APA) (5 U.S.C. 553) the Department generally offers interested parties the opportunity to comment on proposed priorities, selection criteria, definitions, and other requirements. Section 437(d)(1) of GEPA, however, allows the Secretary to exempt from rulemaking requirements, regulations governing the first grant competition under a new or substantially revised program authority. This is the first grant competition for the TQP Grants Program authorized by section 202 of the HEA, and it therefore qualifies for this exemption. In order to ensure timely grant awards, the Secretary has decided to forgo public comment on (a) the requirement that grantees include in their evaluations objectives and measures for improving student achievement; (b) Competitive Preference Priority 1; (c) the definition of “LEA located in a rural area” in Competitive Preference Priority 2, (d) the requirement that a required member of the eligible partnership be the fiscal agent for the grant; (e) the Teacher Need component of the definition of “high-need LEA;” and (f) the selection criteria, Quality of the Project Design and Significance, under section 437(d)(1) of GEPA. These priorities, definitions, and selection criteria will apply to the FY 2009 grant competition and any subsequent year in which we make awards from the list of unfunded applicants from this competition.

Program Authority: 20 U.S.C. 1021-1022(c).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Discretionary grants.

Estimated Available Funds: $143,000,000: The $43,000,000 from the Department of Education's FY 2009 appropriation is only available through September 30, 2009, and must be awarded through the first round of this competition that closes on July 23, 2009. The Department will use the American Recovery and Reinvestment Act (ARRA) of 2009, Public Law No. 111-5, funds in the amount of $100,000,000 to make awards to high scoring applicants from rounds one and two of this competition.

The purposes of the ARRA include the following:

(1) To preserve and create jobs and promote economic recovery;

(2) To assist those most impacted by the recession;

(3) To provide investments needed to increase economic efficiency by spurring technological advances in science and health;

(4) To invest in transportation, environmental protection, and other infrastructure that will provide long-term economic benefit; and

(5) To stabilize State and local government budgets in order to minimize and avoid reductions in essential services and counterproductive State and local tax increases.

Estimated Range of Awards: $1,000,000-$2,000,000.

Estimated Average Size of Awards: $1,500,000.

Estimated Number of Awards: 25-35.

Note: The Department is not bound by any estimates in this notice.

Project Period: 60 months.

III. Eligibility Information

1. Eligible Applicant: An eligible applicant must be an “eligible partnership” as defined in section 200(6) of the HEA. The fiscal agent of the grant may be any of the partners as described in section 200 of the HEA. The eligible partnership means an entity that—

(1) Must include each of the following:

(i) A high-need LEA.

(ii) A high-need school or consortium of high-need schools served by the high-need LEA, or, as applicable, a high-need ECE program.

(iii) A partner institution.

(iv) A school, department, or program of education within such partner institution, which may include an existing teacher professional development program with proven outcomes within a four-year IHE that provides intensive and sustained collaboration between faculty and LEAs consistent with the requirements of Title II of the HEA.

(v) A school or department of arts and sciences within such partner institution; and

(2) May include any of the following:

(i) The Governor of the State.

(ii) The State educational agency.

(iii) The State board of education.

(iv) The State agency for higher education.

(v) A business.

(vi) A public or private nonprofit educational organization.

(vii) An educational service agency.

(viii) A teacher organization.

(ix) A high-performing LEA, or a consortium of high-performing LEAs, that can serve as a resource to the partnership.

(x) A charter school (as defined in section 5210 of the ESEA).

(xi) A school or department within the partner institution that focuses on psychology and human development.

(xii) A school or department within the partner institution with comparable expertise in the disciplines of teaching, learning, and child and adolescent development.

(xiii) An entity operating a program that provides alternative routes to State certification of teachers.

Definitions: For purposes of the definition of “eligible partnership,” the following definitions are from section 200 of the HEA, as amended.

(1) High-Need Local Educational Agency: To be eligible as a “high-need LEA,” an LEA must establish that it meets one of the criteria for requisite poverty or geographic location in component (i), below, and one of the requisite criteria for teacher need in component (ii). Thus, under section 200(10) of the HEA, the term “high-need LEA” means an LEA—

(i)(A) For which not less than 20 percent of the children served by the agency are children from low-income families;

(B) That serves not fewer than 10,000 children from low-income families;

(C) That meets the eligibility requirements for funding under the Small, Rural School Achievement (SRSA) Program under section 6211(b) of the ESEA, or

(D) That meets eligibility requirements for funding under the Rural and Low-Income School Program under section 6221(b) of the ESEA;

(ii) And—

(A) For which there is a high percentage of teachers not teaching in the academic subject areas or grade levels in which the teachers were trained to teach; or

(B) There is a high teacher turnover rate or a high percentage of teachers with emergency, provisional, or temporary certification or licensure.

So that the Department may be able to confirm the eligibility of the LEAs participating in the partnership as “high-need LEAs,” applicants will need to include information in their applications that demonstrates that each participating LEA in the partnership meets the above definition of “high-need.” This information must be based on the most recent data available.

Poverty Data. Under component (i)(A) or (i)(B) of the definition of “high-need LEA,” an LEA must show that not less than 20 percent of the children served by the LEA are children from low-income families or that the LEA serves not fewer than 10,000 children from low-income families. Under section 200(2) of the HEA (20 U.S.C. 1021(2)), the term “children from low-income families” means children described in section 1124(c)(1)(A) of the ESEA (20 U.S.C. 6333(c)(1)(A)). Consistent with that provision, the eligibility of an LEA as a “high-need LEA” under component (i)(A) or (i)(B) must be determined on the basis of the most recent U.S. Census Bureau data, which is currently for 2007. U.S. Census Bureau data are available for all LEAs with geographic boundaries that existed when the U.S. Census Bureau collected its information. The link to the most recent census data is: http://www.census.gov/hhes/www/saipe/district.html. The Department also makes these data available at its Web site at: http://www.ed.gov/programs/lsl/eligibility.html. Some LEAs, such as newly formed LEAs or charter schools in States that accord them LEA status, are not included in Census Bureau poverty data. Eligibility of these particular LEAs will be determined on a case-by-case basis after review of information in the application that addresses, as well as possible, the number or percentage of children from low-income families these LEAs serve.

Eligibility under the Small Rural School Achievement (SRSA) Program or Rural and Low-Income School (RLIS) Program. Under component (i)(C) or (i)(D) of the definition of “high-need LEA,” an LEA may show that it is eligible for the SRSA or RLIS programs authorized in the ESEA. Prospective applicants may determine whether a particular LEA is eligible for these programs by referring to information available on the following Department Web sites. For the SRSA: http://www.ed.gov/programs/reapsrsa/eligible08/index.html. For the RLIS: http://www.ed.gov/programs/reaprlisp/eligibility.html.

Teacher Need. Under component (ii)(A) or (ii)(B) of the definition of a “high-need LEA,” to be a “high-need” LEA, an LEA must have (A) a high percentage of teachers not teaching in the academic subject areas or grade levels in which the teachers were trained to teach, or (B) either a high teacher turnover rate, or a high percentage of teachers with emergency, provisional, or temporary certification or licensure.

Under component (ii)(A) of Teacher Need, for purposes of the TQP Grants Program, and in accordance with section 437(d)(1) of GEPA, an LEA has “a high percentage of teachers not teaching in the academic subject areas or grade levels in which the teachers were trained to teach” if either:

(1) The percentage of its classes taught by teachers of core academic subjects who are not highly qualified exceeds the average percentage for the State in which the LEA is located; or

(2) The applicant submits other information, which the Department accepts, that the percentage of the LEA's teachers who lack training in the academic subject areas or grade levels in which the teachers were trained to teach perhaps because of the short amount of training that many highly qualified teachers may have received before becoming teachers of record, is “high.” Assuming that the Department accepts the applicant's information, the Department will determine eligibility under this test on a case-by-case basis if the percentage of teachers who lack training in the subject area or grade levels they were trained to teach is below five percent.

Section 1119 of the ESEA requires that all of an LEA's teachers of core academic subjects be highly qualified by the end of the 2005-2006 school year, and we know that most LEAs are relatively close to meeting this goal. Because highly qualified teachers are generally teachers with sufficient knowledge or training in the subject they teach, we believe the percentage of an LEA's classes taught by teachers who are not highly qualified (data that SEAs and LEAs must publicly report under section 1111(h)(1)(C)(vii) and (h)(2)(B) of the ESEA, respectively), is a reasonable proxy for the “percentage of teachers not teaching in the academic subject areas or grade levels in which the teachers were trained to teach.” In order to extend eligibility to as many LEAs as possible we provide that an LEA has a “high percentage” of these teachers if the percentage of its classes taught by teachers who are not highly qualified exceeds the State's average.

At the same time, we recognize that LEAs that do not meet this test may also have a high percentage of teachers not teaching in the academic subject areas or grade levels in which the teachers were trained to teach. For example, an LEA might (1) be in a State with a very high average for LEAs statewide, or (2) have many teachers who, while highly qualified in one or more academic subject areas, are teaching an academic subject or grade level for which they are not highly qualified or have little training. In order to accommodate these other situations, we will determine on a case-by-case basis, and based on the data a partnership submits with its application, whether other LEAs also have a “high percentage” of such teachers.

Regarding component (ii)(B) of Teacher Need, an LEA is considered to meet this component of “high-need” if it demonstrates that it has either a high teacher turnover rate or a high percentage of teachers with emergency, provisional, or temporary certification or licensure. In determining what is a “high teacher turnover rate” for purposes of this program, pursuant to section 437(d)(1) of GEPA we adopt, with one minor difference, the same interpretation of this phrase that the Department used under the HEA Teachers for a Competitive Tomorrow (TCT) Baccalaureate and Master's programs. For reasons explained in the notice inviting applications for new FY 2008 awards under the baccalaureate program (see 73 FR 31835, 31837, June 4, 2008), we thus determine that a “high teacher turnover rate” means an annual attrition rate of 16 percent among classroom teachers who did not return to the same school in the LEA, i.e., those teachers who moved the following year to a different school as well as those who left teaching altogether. We adopt this 16 percent rate rather than the 15 percent rate used in the previously authorized HEA Teacher Quality Enhancement Grants program regulations referenced in the TCT notice because the higher rate better reflects the more current data on which ED relied. Consistent with the discussion in the TCT notice, an LEA may calculate this attrition rate by averaging data over the last three years.

The alternative criterion in component (ii)(B) of the definition of “high-need LEA” provides that the LEA must have a high percentage of teachers with emergency, provisional, or temporary certification or licensure. In accordance with section 437(d)(1) of GEPA, and for reasons the Department discussed in the April 30, 2004 notice announcing requirements for the Transition to Teaching Program (69 FR 24001, 24003), the Department adopts the same standard used in that program authorized in Title II, Part C of the ESEA. This standard relies on data that States collect for each LEA on the percentage of teachers in the LEA who are teaching on waivers of State certification, for inclusion in the reports on the quality of teacher preparation that the States provide to the Department in October of each year as required by section 207 of the HEA, as previously authorized.

Consistent with the approach the Department has taken in the Transition to Teaching program, which includes this same criterion in its eligibility requirements, the Department will consider an LEA as meeting the teacher need component of the definition of “high-need LEA” if LEA data the State used for purpose of the State's October 2008 HEA, section 207 report on teachers teaching on waivers of State certification demonstrate that at least 1.37 percent of its teachers (the national average for all 2008 HEA, State reports submitted under section 207 of the HEA, as previously authorized) were on waivers of State certification requirements.

(2) High-Need School: Under section 200(11) of the HEA, the term “high-need school” means a school that, based on the most recent data available, meets at least one of the following:

(i) The school is in the highest quartile of schools in a ranking of all schools served by an LEA, ranked in descending order by percentage of students from low-income families enrolled in such schools, as determined by the LEA based on one of the following measures of poverty:

(A) The percentage of students aged 5 through 17 in poverty counted in the most recent census data approved by the Secretary;

(B) The percentage of students eligible for a free or reduced price school lunch under the Richard B. Russell National School Lunch Act;

(C) The percentage of students in families receiving assistance under the State program funded under Part A of Title IV of the Social Security Act;

(D) The percentage of students eligible to receive medical assistance under the Medicaid program;

(E) A composite of two or more of the measures described in paragraphs (A) through (D).

(ii) If the school is—

(A) An elementary school, not less than 60 percent of its students are eligible for a free or reduced price school lunch under the Richard B. Russell National School Lunch Act; or

(B) Not an elementary school, not less than 45 percent of its students are eligible for a free or reduced price school lunch under the Richard B. Russell National School Lunch Act.

Note: For criterion (i)(A), the only school-level data for these criteria of which the Department is aware are those that concern eligibility for free and reduced price school lunches (paragraph (i)(B)). In addition criterion (ii)(A) does not itself permit an LEA to determine that a middle school or high school is a “high-need school” on the basis of the percentage of students attending its feeder schools that are eligible for free and reduced price school lunch subsidies. However, the Special Rule found in Section 200(11)(B)(i) of the HEA allows the Secretary, upon approval of an application submitted by an eligible partnership, to designate a school as a high-need school for purposes of this program even though that school does not meet the definition of “high need” under the above definition. Specifically, section 200(11)(B)(i) permits the Secretary to approve an eligible partnership's application to designate any school as a high-need school based on consideration of the specific information identified in section 200(11)(B)(ii) and, at the Secretary's option, any other information the eligible partnership submits.

The need that middle and high schools located in high-poverty areas served by high-need LEAs have for more able, higher quality teachers is abundantly clear. However, while criterion (i)(A) requires a high-need school to have a minimum percentage of its students eligible for free and reduced price school lunch subsidies, it is common knowledge that, as students get older, the percentage of them choosing to apply for these lunch subsidies decreases.

We do not believe that Congress intended to erect such a barrier to the ability of middle and high schools located in high-poverty areas to be able to benefit from teachers trained through the pre-baccalaureate teacher preparation program, fifth year initial licensing program, or teaching residency program. Therefore, the Secretary will identify a middle or high school as “high-need” if—

(a) The aggregate level of poverty of the school's feeder schools, based on the aggregate percentage of their students eligible for free and reduced price school lunch subsidies, yields the percentage provided in section 200(11)(A)(ii); and

(b) The eligible applicant provides in its application the information identified in section 200(11)(B)(ii).

(3) High-Need Early Childhood Education Program: Under section 200(9) of the HEA, the term “high-need ECE program” means an ECE program serving children from low-income families that is located within the geographic area served by a high-need LEA.

(4) Partner Institution: Under section 200(17) of the HEA, the term “partner institution” means an IHE, which may include a two-year IHE offering a dual program with a four-year IHE, participating in an eligible partnership that has a teacher preparation program—

(i) Whose graduates exhibit strong performance on State-determined qualifying assessments for new teachers through—

(A) Demonstrating that 80 percent or more of the graduates of the program who intend to enter the field of teaching have passed all of the applicable State qualification assessments for new teachers, which shall include an assessment of each prospective teacher's subject matter knowledge in the content area in which the teacher intends to teach; or

(B) Being ranked among the highest-performing teacher preparation programs in the State as determined by the State using criteria consistent with the requirements for the State report card under section 205(b) of the HEA before the first publication of the report card.

(ii) And that requires—

(A) Each student in the program to meet high academic standards or demonstrate a record of success, as determined by the institution (including prior to entering and being accepted into a program), and participate in intensive clinical experience;

(B) Each student in the program preparing to become a teacher to become “highly qualified” (as defined in section 9010(23) of the ESEA); and

(C) Each student in the program preparing to become an “early childhood educator” to meet degree requirements, as established by the State, and become “highly competent.”

Note: For purposes of paragraph (ii)(C) of this definition, the term “highly competent,” under section 200(12) of the HEA, means the early child educator has—

(a) Specialized education and training in development and education of young children from birth up to entry into kindergarten; and

(b)(i) A baccalaureate degree in an academic major in the arts and sciences; or

(ii) An associate's degree in a related educational area; and

(c) Demonstrated a high level knowledge and use of content and pedagogy in the relevant areas associated with quality ECE.

(5) Additional Definitions: Definitions for the following terms that apply to this program are in section 200 of the HEA: “arts and sciences,” “early childhood educator,” “highly qualified,” “induction program,” “limited English proficient,” “professional development,” “scientifically valid research,” “teacher mentoring” and “teaching residency program.”

2. Cost Sharing or Matching:

(1) Under section 203(c) of the HEA (20 U.S.C. 1022(b)), each grant recipient must provide, from non-Federal sources, an amount equal to 100 percent of the amount of the grant, which may be provided in cash or in-kind, to carry out the activities supported by the grant. Grantees must budget their matching contributions on an annual basis relative to each annual award of Teacher Quality Partnership Program funds.

However, the HEA also authorizes the Secretary to waive this matching requirement for any partnership for any fiscal year if the Secretary determines that “applying the matching requirement to the eligible partnership would result in serious hardship or an inability to carry out the authorized activities described in” the law. In view of the impact of the Nation's current economic difficulties on the fiscal situation of so many LEAs and IHEs, for purposes of this competition the Secretary will waive up to 100 percent of the required match for each of the first two years of the grant based on a certification of serious hardship from the applicant that is included in the application. The Department will not at this time entertain a request for a waiver of the matching requirement for project years three through five, and applicants must provide a proposed non-Federal budget for these project years. Applicants who do not request a waiver or who request a waiver for only a portion of the matching amount in years one and two must provide a non-Federal budget for the required portion of their years one and two match that they intend to provide.

(2) Supplement-Not-Supplant: This program involves supplement-not-supplant funding requirements. In accordance with section 202(k) of the HEA funds made available under this program must be used to supplement, and not supplant other Federal, State, and local funds that would otherwise be expended to carry out activities under this program.

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this program or competition as follows: CFDA number 84.405A.

2. Content and Form of Application Submission: Requirements concerning the content of an application, together with the forms you must submit, are in the application package for this competition.

Page Limit: The application narrative (Part III of the application) is where you, the applicant, address the selection criteria that reviewers use to evaluate your application. It is recommended that the application narrative (Part III) be no more than 50 pages, using the following standards:

• A “page” is 8.5″ × 11″, on one side only, with 1” margins at the top, bottom, and both sides.

• Double space (no more than three lines per vertical inch) all text in the application narrative, including titles, headings, footnotes, quotations, references, and captions. However, you may single space all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section (Part III).

3. Submission Dates and Times: Applications Available: August 4, 2009. Deadline for Transmittal of Applications: First Deadline: July 23, 2009. Second Deadline: October 6, 2009.

Applications for grants under this program must be submitted electronically using the Electronic Grant Application System (e-Application) accessible through the Department's e-Grants site. For information (including dates and times) about how to submit your application electronically, or in paper format by mail or hand delivery if you qualify for an exception to the electronic submission requirement, please refer to section IV. 6.

Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: First Deadline: September 21, 2009. Second Deadline: December 7, 2009.

4. Intergovernmental Review: This competition is subject to Executive Order 12372 and the regulations in 34 CFR part 79. Information about Intergovernmental Review of Federal Programs under Executive Order 12372 is in the application package for this competition.

5. Funding Restrictions: We reference additional regulations outlining funding restrictions in the Applicable Regulations section of this notice.

6. Other Submission Requirements: Applications for grants under this program must be submitted electronically unless you qualify for an exception to this requirement in accordance with the instructions in this section.

(a) Electronic Submission of Applications. Applications for grants under the Teacher Quality Partnership—CFDA Number 84.405A must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30 p.m., Washington, DC time, on the application deadline date. E-Application will not accept an application for this program after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Peggi Zelinko, U.S. Department of Education, 400 Maryland Avenue, SW., room 4W306, Washington, DC 20202-5960. Fax: (202) 401-8466.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the following address: U.S. Department of Education, Application Control Center, Attention: (CFDA Number 84.405A), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application, by hand, on or before the application deadline date, to the Department at the following address: U.S. Department of Education, Application Control Center, Attention: (CFDA Number 84.405A), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department:

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria governing this competition are listed in the following paragraphs. The selection criterion, Quality of Project Evaluation, is from 34 CFR 75.210 in the Education Department General Administrative Regulations (EDGAR) and section 204 of the HEA. The selection criterion, Quality of the Management Plan, is from 34 CFR 75.210 in EDGAR. The selection criterion, Quality of the Project Design, includes a combination of the factors under that criterion in 34 CFR 75.210(c) EDGAR and the criterion, Quality of Project Services in 34.210(d); specifically, factor (2)(i) is from 34 CFR 75.210(c) and factors (2)(ii), (iii) and (iv) are from 34 CFR 75.210(d). The selection criterion, Significance, includes a combination of the factors under that criterion in 34 CFR 75.210(b) and the criterion, Quality of Project Personnel, in 34 CFR 75.210(e); specifically, factors (2)(i), (ii) and (iii) are from section 34 CFR 75.210(b) and factor (2)(iv) is from section 34 CFR 75.210(e). We are combining these factors under these specific criteria to provide greater clarity on how applicants should address the criteria in their applications.

The maximum score for all of the selection criteria is 100 points. The maximum score for each criterion is indicated in parentheses with the criterion. These criteria are for the FY 2009 grant competition and any subsequent year in which we make awards based on the list of unfunded applicants from this competition only.

(a) Quality of the Project Design (up to 40 points).

(1) The Secretary considers the quality of the design of the proposed project.

(2) In determining the quality of the design of the proposed project, the Secretary considers the extent to which the proposed project consists of a comprehensive plan that includes a description of—

(i) The extent to which the proposed project represents an exceptional approach to the priority or priorities established for this competition;

(ii) The likely impact of the services to be provided by the proposed project on the intended recipients of those services;

(iii) The extent to which the training or professional development services to be provided by the proposed project are of sufficient quality, intensity, and duration to lead to improvements in practice among the recipients of those services; and

(iv) The extent to which the services to be provided by the proposed project involve the collaboration of appropriate partners for maximizing the effectiveness of project services.

Note: The Secretary encourages applicants to address this criterion by discussing the overall project design and its key components, and the degree to which the design's key components are based on sound research and practice. Applicants are also encouraged to address this criterion by connecting the project design to the intended impact of the project and how the project will affect the participants, including preparation, placement, retention, and effect on improved student achievement. Finally, applicants are encouraged to discuss the role and commitment of each partner and document each partner's responsibilities and commitment to the project.

(b) Quality of the Project Evaluation (up to 25 points).

(1) The Secretary considers the quality of the evaluation to be conducted of the proposed project.

(2) In determining the quality of the evaluation, the Secretary considers—

(i) The extent to which the methods of evaluation include the use of objective performance measures that are clearly related to intended outcomes of the project and will produce quantitative and qualitative data to the extent possible;

(ii) The extent to which the methods of evaluation address the evaluation requirements in section 204(a) of the HEA; and

(iii) The extent to which the methods of evaluation will provide performance feedback and permit periodic assessment of progress toward achieving intended outcomes.

Note: The Secretary encourages applicants to include a plan of how the project's evaluation will address the TQP Grants Program performance measures established by the Department under the Government Performance and Results Act of 1993 (GPRA). (The specific performance measures established for the overall TQP Grants Program are discussed under Performance Measures in section VI of this notice.) Further, each applicant is encouraged to describe how the applicant's evaluation plan will be designed to collect both output data and outcome data including benchmarks to monitor progress. Finally, each applicant is encouraged to select an independent, objective evaluator who has experience in evaluating educational programs and who will play an active role in the design and development of the project. For resources on what to consider in designing and conducting project evaluations, go to http://www.whatworkshelpdesk.ed.gov/.

(c) Significance (up to 20 points).

(1) The Secretary considers the significance of the proposed project.

(2) In determining the significance of the proposed project, the Secretary considers the following factors—

(i) The likelihood that the proposed project will result in system change or improvement;

(ii) The extent to which the proposed project is likely to build local capacity to provide, improve, or expand services that address the needs of the target population;

(iii) The importance or magnitude of the results or outcomes likely to be attained by the proposed project, especially improvements in teaching and student achievement; and

(iv) The potential for continued support of the project after Federal funding ends, including, as appropriate, the demonstrated commitment of appropriate entities to such support.

Note: The Secretary encourages applicants to describe the use of a needs assessment to determine the specific needs of project participants and how the project will address these needs. Applicants are also encouraged to indicate how the project will affect teaching and student achievement in the proposed service area. Finally, applicants are encouraged to include a description of the commitment to build local capacity for the project and how this capacity building will be achieved.

(d) Quality of the Management Plan (up to 15 points).

(1) The Secretary considers the quality of the management plan for the proposed project.

(2) In determining the quality of the management plan for the proposed project, the Secretary considers the following factors—

(i) The adequacy of the management plan to achieve the objectives of the proposed project on time and within budget, including clearly defined responsibilities, timelines, and milestones for accomplishing project tasks;

(ii) The adequacy of procedures for ensuring feedback and continuous improvement in the operation of the proposed project; and

(iii) The adequacy of mechanisms for ensuring high-quality products and services from the proposed project.

Note: The Secretary encourages applicants to address these criteria by including in the application narrative a clear, well thought-out implementation plan that includes annual timelines, key project milestones, and a schedule of activities with sufficient time for developing an adequate implementation plan, as well as a description of the personnel who would be responsible for each activity and the level of effort each activity entails.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

Applicants are encouraged to include in their budgets funds for at least two project staff members to attend two meetings of the TQP Grants Program in Washington DC during each year of the project.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

Some of the funds awarded through this program were appropriated under the American Recovery and Reinvestment Act (ARRA) of 2009, Public Law 111-5, and are subject to additional accountability and transparency reporting requirements, which are described in section 1512(c) of the ARRA. Grantees receiving funds provided by the ARRA must be able to distinguish these funds from any other funds they receive through this program. Recipients of ARRA funds will be required to submit quarterly reports on the expenditure of these funds no later than ten days after the end of each calendar quarter through a centralized reporting Web site administered by the Office of Management and Budget (OMB): http://www.federalreporting.gov. The information reported at this Web site will be available to the Department, the White House, OMB and the public on http://www.Recovery.gov. Additional guidance providing further detail on the quarterly report will be provided at a later time.

4. Performance Measures: The objective of the TQP Grants Program is to increase student achievement in K-12 schools by developing highly qualified teachers. Under GPRA, the following measures will be used by the Department in assessing the performance of this program:

(a) Performance Measure 1: Graduation. The percentage of program completers who—

(1) Attain initial certification/licensure by passing all necessary certification/licensure assessments and attain a bachelor's degree (pre-baccalaureate teacher preparation program) or initial license (fifth year initial licensing program) within six years of beginning the program, or a master's degree (residency program) within two years of beginning the program; or

(2) Attain Highly Competent Early Childhood Educator status by earning a bachelor's degree within six years of beginning the program or an associate's degree within three years of beginning the program.

(b) Performance Measure 2: Employment Retention. The percentage of beginning teachers who are retained in teaching in the partner high-need LEA or high-need ECE program three years after being hired by the high-need LEA or high-need ECE program;

(c) Performance Measure 3: Improved Scores. The percentage of grantees that report improved scaled scores on assessments for initial State certification or licensure of teachers;

(d) Efficiency Measure: Employment Retention. The cost of a successful outcome where success is defined as retention of the teacher in the partner high-need LEA or high-need ECE program three years after the teacher is hired by the high-need LEA or high-need ECE program;

(e) Short-Term Performance Measures. Because the performance measures already listed would not provide data for a number of years, the Department has also established the following two measures that will provide data in a shorter timeframe—

(1) Short-Term Performance Measure 1: Persistence. The percentage of program participants, who were not scheduled to graduate in the previous reporting period, and persisted in the postsecondary program in the current reporting period; and

(2) Short-Term Performance Measure 2: Employment Retention. The percentage of beginning teachers who are retained in teaching in the partner high-need LEA or high-need ECE program one year after being hired by the LEA or high-need ECE program.

Note: If funded, you will be asked to collect and report data on these measures in your project's annual performance report (EDGAR, 34 CFR 75.590). Applicants are also advised to consider these measures in conceptualizing the design, implementation, and evaluation of their proposed projects because of their importance in the application review process. Collection of data on these measures should be a part of the evaluation plan, along with measures of progress on goals and objectives that are specific to your project.

All grantees will be expected to submit an annual performance report documenting their success in addressing these performance measures.

VII. Agency Contact

For Further Information Contact: Teacher Quality Partnership Grants Program, U.S. Department of Education, 400 Maryland Avenue, SW., room 4W320, Washington, DC 20202. Telephone: (202) 260-0563 or by e-mail: TQPartnership@ed.gov.

If you use a TDD, call the Federal Relay Service, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 30, 2009.
James H. Shelton, III,
Assistant Deputy Secretary for Innovation and Improvement.

[FR Doc. E9-18614 Filed 8-3-09; 8:45 am]

BILLING CODE 4000-01-P